DEPARTMENT OF COMMERCE

National Oceanic and Atmospheric Administration

[I.D.022701C]

Marine Mammals; File No.775-1600

AGENCY: National Marine Fisheries Service (NMFS), National Oceanic and Atmospheric Administration (NOAA), Commerce.

ACTION: Issuance of permit.

SUMMARY: Notice is hereby given that Dr. Micheal P. Sissenwine, Northeast Fisheries Science Center, NMFS,166 Water Street, Woods Hole, Massachusetts 02543-1026, has been issued a permit to take harbor seals (Phoca vitulina), gray seals (Halichoerus grypus), harp seals (Phoca groenlandica), and hooded seals (Cystophora cristata) for purposes of scientific research.

DATES: Written or telefaxed comments must be received on or before April 9, 2001.

ADDRESSES: The permit and related documents are available for review upon written request or by appointment in the following office(s):

Permits and Documentation Division, Office of Protected Resources, NMFS, 1315 East-West Highway, Room 13130, Silver Spring, MD 20910 (301/713-2289); and

Northeast Region, NMFS, One Blackburn Drive, Gloucester, MA 01930-2298; phone (508)281-9250; fax (508)281-9371.

FOR FURTHER INFORMATION CONTACT: Tammy Adams or Ruth Johnson, 301/713-2289.

SUPPLEMENTARY INFORMATION: On October 27, 2000, notice was published in the Federal Register (65 FR 64432) that a request for a scientific research permit to take seven species of baleen whale, twenty species of odontocetes, and four species of pinnipeds had been submitted by the above-named organization.

The requested permit has been issued for the four species of pinniped only under the authority of the Marine Mammal Protection Act of 1972, as amended (16 U.S.C. 1361 et seq.), and the Regulations Governing the Taking and Importing of Marine Mammals (50 CFR part 216).

Dated: March 6, 2001.
Ann D. Terbush,
Chief, Permits and Documentation Division, Office of Protected Resources, National Marine Fisheries Service.

[FR Doc. 01-5867 Filed 3-8-01; 8:45 am]

BILLING CODE 3510-22-S